DEPARTMENT OF COMMERCE

Foreign-Trade Zones Board

[B-26-2021]

Foreign-Trade Zone (FTZ) 38—Spartanburg County, South Carolina; Authorization of Production Activity; Black & Decker (U.S.), Inc. (Production and Kitting of Power Tools and Injection Molded Parts); Fort Mill, South Carolina

On March 30, 2021, Black & Decker (U.S.), Inc. submitted a notification of proposed production activity to the FTZ Board for its facility within Subzone 38M, in Fort Mill, South Carolina.

The notification was processed in accordance with the regulations of the FTZ Board (15 CFR part 400), including notice in the Federal Register inviting public comment (86 FR 17771-17772, April 6, 2021). On July 28, 2021, the applicant was notified of the FTZ Board's decision that no further review of the activity is warranted at this time. The production activity described in the notification was authorized, subject to the FTZ Act and the FTZ Board's regulations, including Section 400.14.

Dated: July 28, 2021.
Andrew McGilvray,
Executive Secretary.

[FR Doc. 2021-16395 Filed 7-30-21; 8:45 am]

BILLING CODE 3510-DS-P